DEPARTMENT OF LABOR

Employment and Training Administration

[NAFTA-6244]

Specialty Machine Company, Inc., Gastonia, NC; Dismissal of Application for Reconsideration

Pursuant to 29 CFR 90.18(C) an application for administrative reconsideration was filed with the Director of the Division of Trade Adjustment Assistance for workers at Specialty Machine Company, Inc., Gastonia, North Carolina. The application contained no new substantial information which would bear importantly on the Department's determination. Therefore, dismissal of the application was issued.

NAFTA-6244; Specialty Machine Company, Inc. Gastonia, North Carolina (February 4, 2003)

Signed at Washington, DC, this 12th day of February 2003.
Edward A. Tomchick,
Director, Division of Trade Adjustment Assistance.

[FR Doc. 03-7892 Filed 4-1-03; 8:45 am]

BILLING CODE 4510-30-M